DEPARTMENT OF HEALTH AND HUMAN SERVICES

Centers for Medicare & Medicaid Services

[Document Identifier: CMS-906]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection;

Title of Information Collection: The Fiscal Soundness Reporting Requirements; Use: The Centers for Medicare and Medicaid Services (CMS) is assigned responsibility for overseeing the on-going financial performance for all Medicare Advantage Organizations (MAO), Prescription Drug Plan (PDP) sponsors and Program of All-Inclusive Care for the Elderly (PACE) organizations. Specifically, CMS needs the requested collection of information to establish that contracting entities within those programs maintain fiscally sound organizations. The revised fiscal soundness reporting form combines MAO, PDP, 1876 Cost Plans, Demonstration Plans and PACE organizations. Entities contracting in these programs currently submit all documentation being requested. Specifically, all contracting organizations must submit annual independently audited financial statements one time per year. The MAOs with a net loss, a negative net worth or both must file three quarterly statements. Currently there are approximately 44 MAOs filing quarterly financial statements. The PDPs must also file three unaudited quarterly financial statements. The PACE organizations are required to file 3 quarterly financial statements for the first three years in the program. Additionally, PACE organizations with a net loss, a negative net worth or both must file statements as well.

The information collection request is being revised to include one additional data element for PACE organizations only, Total Subordinated Liabilities. The addition of the new data element will actually reduce the time to analyze the financial standing of PACE organizations because we will no longer have to contact the PACE organizations to establish whether or not the organization's total liabilities calculation includes subordinated debt. Form Number: CMS-906 (OCN: 0938-0469); Frequency: Annually, Quarterly; Affected Public: Private Sector: Business or other for-profits and Not-for-profit institutions; Number of Respondents: 648; Total Annual Responses: 1,281; Total Annual Hours: 428. (For policy questions regarding this collection contact Joe Esposito at 410-786-1129. For all other issues call 410-786-1326.)

To obtain copies of the supporting statement and any related forms for the proposed paperwork collections referenced above, access CMS' Web Site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by November 5, 2012:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: CMS-R-284 (OCN 0938-0345), Room C4-26-05, 7500 Security Boulevard, Baltimore, Maryland 21244-1850.

Dated: August 29, 2012.
Martique Jones,
Director, Regulations Development Group, Division B, Office of Strategic Operations and Regulatory Affairs.

[FR Doc. 2012-21671 Filed 8-31-12; 8:45 am]

BILLING CODE 4120-01-P